FEDERAL COMMUNICATIONS COMMISSION

[MB Docket No. 25-322; DA 25-961; FR ID 319167]

Empowering Local Broadcast TV Stations To Meet Their Public Interest Obligations: Exploring Market Dynamics Between National Programmers and Their Affiliates

AGENCY: Federal Communications Commission.

ACTION: Notice; request for comments.

SUMMARY: In this document, the Media Bureau seeks comment on the current market, regulatory, and contractual dynamics governing the relationship between local television broadcast stations and national programmers in order to identify any barriers that may be preventing local broadcast televisions stations from meeting their public interest obligations and responding to the needs of their local communities.

DATES: Comments are due by December 10, 2025. Reply Comments are due by December 24, 2025.

ADDRESSES: You may submit comments, identified by MB Docket No. 25-322, electronically or on paper. See SUPPLEMENTARY INFORMATION for specific information and addresses for electronic or paper filings.

FOR FURTHER INFORMATION CONTACT: Kathy Berthot, Federal Communications Commission, Media Bureau, Policy Division, Kathy.Berthot@fcc.gov, (202) 418-7454.

SUPPLEMENTARY INFORMATION: This is a summary of the Media Bureau's Public Notice, Empowering Local Broadcast TV Stations to Meet Their Public Interest Obligations: Exploring Market Dynamics Between National Programmers and Their Affiliates, MB Docket No. 25-322, DA 25-961, released on November 19, 2025. The full text of this document is available for public inspection and can be downloaded at https://docs.fcc.gov/public/attachments/DA-25-961A1.pdf. Alternative formats are available for people with disabilities (Braille, large print, electronic files, audio format) by sending an email to fcc504@fcc.gov or calling the Commission's Consumer and Governmental Affairs Bureau at (202) 418-0530 (voice), (202) 418-0432 (TTY).

Comment Period and Filing Procedures. Interested parties may file comments on or before the dates provided in the DATES section of this document. Comments must be filed in MB Docket No. 25-322. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Ex Parte Rules. The proceeding this Public Notice initiates shall be treated as an “exempt” proceeding in accordance with the Commission's ex parte rules. Ex parte presentations are permissible and need not be publicly disclosed, but may be if the presenter chooses.

Synopsis

Congress has provided the FCC with broad and expansive authority over the provision of broadcast television service. Specifically, television broadcasters are required by both the Communications Act and the terms of their FCC-issued licenses to operate in the public interest. Television broadcasters have this public interest obligation because the government has given them the privilege of using a scarce national resource—the public airwaves—and in doing so has necessarily excluded others that might want to broadcast their own programming over that spectrum. This public interest obligation distinguishes television broadcasters from other types of program distributors, including cable companies, streaming services, podcasts, and more, that were never given free access to the public airwaves or a federal license to broadcast on that spectrum.

By this Public Notice, the Media Bureau continues its efforts to empower local television broadcasters to meet their public interest obligations. Consistent with longstanding FCC precedent and rules, we want to identify any barriers that may be preventing local broadcast televisions stations from meeting their public interest obligations and responding to the needs of their local communities. In doing so, we will focus here on seeking comment on the current market, regulatory, and contractual dynamics governing the relationship between local television broadcast stations on the one hand and national programmers on the other.

The obligation to operate a broadcast television station in the public interest is fundamental to holding Commission licenses. This obligation predates the Commission and the Communications Act of 1934, having been codified in the Radio Act of 1927. Consistent with the First Amendment, the Commission has afforded licensees leeway in meeting this obligation. But courts have long held that the First Amendment does not relieve a licensee of its public interest obligation, nor does it absolve the Commission of its statutory duty to ensure those licensees meet public interest requirements.

Much of the programming that viewers associate with TV programming is in fact provided by a national network programmer through a local broadcast TV station that affiliates with the national programmer. In these arrangements, the local broadcast TV affiliate station is the actual holder of the broadcast license. As the holder of a broadcast license, it is incumbent upon the licensee—not the network—to ensure that it is meeting its public interest obligation by providing programming that serves the needs of the communities it serves. Nonetheless, the FCC has been clear over the years that the relationships between local television stations and the national programmers are relevant to the FCC's enforcement of the public interest standard.

Despite the importance of the network/affiliate relationship to broadcasters' fulfillment of their public interest obligations, the FCC has not undertaken a review of the complex issues raised by that relationship in more than 15 years. Stakeholders representing the interests of affiliated or local television broadcasters have suggested that, in this time, an imbalance has developed in this relationship—that the horizontally and vertically integrated companies that now own national programming networks, cable companies, and streaming platforms can overpower affiliated broadcast television stations. This imbalance, in their view, frustrates local broadcasters in their efforts to fulfill their public interest obligations. Although the FCC does not directly regulate the national programmers as such, the Supreme Court has held that the relationship between networks and affiliates is well within the Commission's regulatory jurisdiction. Indeed, the FCC has long had rules on its book that regulate the rights that national programmers can obtain from local television broadcasters.

This Public Notice is an important step in gathering the information needed to consider whether the national programming networks are exerting undue influence or control over their affiliate stations, whether the Commission's rules are operating to ensure the independence of affiliate stations, and whether the Commission's rules require any clarification or amendment to ensure that local affiliates are empowered to meet their statutory public interest obligations.

Changes in the network/affiliate relationship. We seek comment on the status of the relationship between the national programmers and affiliated local broadcast TV stations and how their relative bargaining positions may have changed in recent years. How have changes in the broadcast industry, such as consolidation of station ownership and the introduction of NextGen TV, affected the relative bargaining positions of networks and their affiliates? How have changes in the broader market for video programming, including the rapid growth of streaming services and cord-cutting by consumers, impacted these relative bargaining positions? Do these impacts differ for or among Big Four (i.e., ABC, CBS, NBC, and Fox) network affiliates and non-Big Four network affiliates? We also seek comment on the relative bargaining positions of large station group owners as compared to smaller station group owners and single stations in negotiating affiliation agreements with networks today. Are smaller station group owners and single stations typically subject to more onerous and restrictive terms in their affiliation agreements with networks?

Licensee control over station programming and operations. Under the Communications Act and the Commission's rules, affiliates, as the licensees of local television stations, must retain ultimate control over programming, operations, and other critical decisions with respect to their stations, and network affiliations must not undermine this control. We seek comment on whether and how network affiliation agreements or the current dynamics of the network/affiliate relationship may be impeding the ability of affiliates to maintain ultimate control over the critical decisions of their stations, including station programming and operations.

We seek comment on whether such control is attributable to restrictive conditions in affiliation agreements or a result of an imbalance of power between the networks and their affiliates or other factors. Are there other network practices today that hinder the ability of their affiliate stations to maintain control over programming decisions? For example, many local affiliates object to provisions that limit their ability to negotiate directly with certain video programming distributors. Should the Commission amend or clarify its rules to address any such situations and, if so, how? What other steps can the Commission take to help ensure that network practices do not undermine the ability of stations to maintain ultimate control over their programming and operations?

Commission rules governing affiliation agreements. We seek comment on how networks are currently handling their relationships with affiliates with regard to the specific program practices governed by Section 73.658 of the Commission's rules, 47 CFR 73.658. Section 73.658 includes the exclusive affiliation rule; the territorial exclusivity rule; the option-time rule; the right to reject rule; and the dual network rule. Are the requirements of the Commission's rules generally observed or are there general or specific instances where network agreements violate the requirements or undermine the purpose and intent of the requirements? Commenters are encouraged to provide specific examples. What impact does such conduct have on the ability of local stations to serve the needs and interests of their communities? Have market conditions changed in the time since these rules were adopted in a manner that necessitates further Commission guidance on or clarification of these requirements? What other actions can the Commission take to ensure compliance with these requirements?

Consistent with the FCC's right to reject rule, we seek comment in particular regarding the preemption of national programming by local broadcast TV stations. As indicated in that rule, the FCC has determined that affiliation agreements should not include provisions that limit right-to-reject preemptions for “greater local or national importance” to breaking news events or any other specific type of programming; prevent affiliates from rejecting a program as “unsatisfactory or unsuitable or contrary to the public interest” because they have carried a similar network program in the past; or impose monetary or nonmonetary penalties on affiliates based on preemptions protected by the right-to-reject rule. Should the FCC consider any changes to this rule? Are national programmers able to take actions or threaten to punish local broadcast TV stations that attempt to exercise their lawful right to preempt national programming?

Networks' undue influence over affiliation agreements. We also seek input on the extent to which networks use their positions in the market to unduly influence the terms of the affiliation agreements with their affiliate stations. For instance, the national programming networks have moved some popular programming from broadcast television to their streaming platforms, and sometimes simulcast marquee network sports programming, such as the Super Bowl and the Olympics, on their streaming platforms. Does a network's growing focus on their streaming platforms suggest that the networks hold considerable leverage today in their contract negotiations with their affiliates? We seek comment on the extent to which networks may be using leverage to impose burdensome and restrictive terms in the affiliation agreements with their local affiliate stations. How have such terms impacted the ability of affiliate stations to operate as trusted sources of local news and other local programming and carry out other essential operational functions? Are there actions that the Commission could take to help restore the balance in the network/affiliate relationship and ensure that networks are not exercising undue influence over the terms of affiliation agreements?

Good faith negotiations between networks and their affiliates. Broadcast television stations and multichannel video programming distributors (MVPDs) are required under the Communications Act and the Commission's rules to negotiate retransmission consent in good faith. The focus of the good faith bargaining rules is not on the substantive terms of retransmission consent negotiations but rather is to ensure that the parties “meet to negotiate retransmission consent and that such negotiations are conducted in an atmosphere of honesty, purpose, and clarity of process.” We seek comment on whether the network/affiliate negotiation process would benefit from adoption of similar good faith bargaining rules. We also seek comment on what authority, if any, the Commission has to adopt good faith bargaining rules for networks and their affiliate stations.

Future Rulemaking. If the Commission were to consider initiating a broader proceeding, what other policy alternatives might foster competition in affiliate negotiations? In 1941, for instance, the Commission issued its Chain Broadcasting Report, which was designed to address inequities between radio networks and their affiliated stations. In the early 1940s, radio broadcasting in the United States was almost exclusively provided by four national AM radio networks, similar to today's television broadcast market, which is dominated by the four large networks that are now horizontally integrated, owning multiple service platforms and stations, including cable, broadcasting, and streaming services. In the Chain Broadcasting Report, the Commission found that certain regulations were necessary to address unfair practices in negotiations between the radio networks and local affiliate stations. For example, the report stated that affiliates should be allowed to broadcast programs of other networks as well as to schedule their own programs. Should the Commission consider adopting regulations similar to these in light of the changes in the broadcast market that have led to anticompetitive leverage and behavior by large networks?

Remedial Actions. If the FCC subsequently determines that certain contract provisions and related network practices should be prohibited by rule, we seek comment on how to address offending affiliate agreements in order to restore full control of the license to the affiliate. For example, should the Commission simply declare that such provisions are unenforceable and/or provide a safe harbor for affiliates and networks to renegotiate their agreements within a specified period of time not to exceed the next renewal filing period for television stations? Moving forward, should he Commission engage in a more detailed review of affiliate agreements when reviewing license renewals in order to detect and address discriminatory or anticompetitive terms? We seek comment on these and other remedial provisions as possible avenues for the Commission to explore in addressing these marketplace issues.

Thomas Horan,
Chief of Staff, Media Bureau.

[FR Doc. 2025-21318 Filed 11-26-25; 8:45 am]

BILLING CODE 6712-01-P